DEPARTMENT OF THE INTERIOR

National Park Service

Notice of Inventory Completion: Oregon State Museum of Anthropology, University of Oregon, Eugene, OR

AGENCY: National Park Service, Interior.

ACTION: Notice.

SUMMARY: Pursuant to the Native American Graves Protection and Repatriation Act (NAGPRA), the Oregon State Museum of Anthropology, University of Oregon, Eugene, OR (museum that has control of the cultural items), determined that the physical remains of 10 individuals of Native American ancestry and approximately 331 associated funerary objects in the museum's collections, described below in Information about cultural items, are culturally affiliated with the Coquille Tribe of Oregon; Confederated Tribes of the Coos, Lower Umpqua and Siuslaw Indians of Oregon; Confederated Tribes of the Grande Ronde Community of Oregon; and Confederated Tribes of the Siletz Reservation, Oregon.

The National Park Service publishes this notice on behalf of the museum as part of the National Park Service's administrative responsibilities under NAGPRA. The museum is solely responsible for information and determinations stated in this notice. The National Park Service is not responsible for the museum's determinations.

Information about NAGPRA is available online at http://www.cr.nps.gov/nagpra.

DATES: Repatriation of the cultural items to the Indian tribes listed above in Summary may proceed after July 1, 2005, if no additional claimants come forward. Representatives of any other Indian tribe that believes itself to be culturally affiliated with the cultural items should contact the museum before July 1, 2005.

SUPPLEMENTARY INFORMATION: Authority. 25 U.S.C. 3001 et seq. and 43 CFR Part 10.

Contact. Contact C. Melvin Aikens, Oregon State Museum of Anthropology, 1224 University of Oregon, Eugene, OR 97403-1224, telephone (541) 346-5115, regarding determinations stated in this notice or to claim the cultural items described in this notice.

Consultation. The museum identified the cultural items and the cultural affiliation of the cultural items in consultation with representatives of the Coquille Tribe of Oregon; Confederated Tribes of the Coos, Lower Umpqua and Siuslaw Indians of Oregon; Confederated Tribes of the Grande Ronde Community of Oregon; and Confederated Tribes of the Siletz Reservation, Oregon.

Information about cultural items. In 1938, human remains representing a minimum of four individuals were removed from three burials during excavations by University of Oregon staff at site 35SC3, Bullards Beach, Coos County, OR. The status of the land at the time of removal is unknown. The museum accessioned the human remains into the collection in 1939. No known individuals were identified. The 75 associated funerary objects are pine nut beads.

Site 35SC3 is a habitation site that probably dates to the middle of the 19th century. The published site report states that the three burials were interred underneath decayed wood planks, but remnants of the planks apparently were not collected.

In 1952, human remains representing a minimum of two individuals were removed from site 35CS5, Bullards Beach, Coos County, OR, during excavations by University of Oregon staff. The status of the land at the time of removal is unknown. The museum accessioned the human remains into the collection in 1959. No known individuals were identified. The approximately 250 associated funerary objects include glass and dentalium shell beads and cedar plank fragments.

In 1954, human remains representing a minimum of one individual were removed from site 35CS5, Bullards Beach, Coos County, OR, and donated the same year to the museum by local residents. The status of the land at the time of removal is unknown. The names of the residents are withheld by the museum. No known individual was identified. The two associated funerary objects are one stone scraper and one blue glass bead.

At an unknown date, human remains representing one individual were recovered by an unknown party from site 35CS5, Bullards Beach, Coos County, OR, and were accessioned into the collection at an unknown date. The status of the land at the time of removal is unknown. No known individual was identified. No associated funerary objects are present.

The presence of the Euroamerican beads at site 35CS5 dates the human remains that were removed in 1952 and 1954 to the Protohistoric or Historic period.

In 1969, human remains representing a minimum of two individuals were removed from the vicinity of the Coquille River, Coos County, OR, by the Coos County sheriff, who discovered the human remains exposed by flooding. The status of the land at the time of removal is unknown. The sheriff donated the human remains to the museum the same year. The museum inventoried two sets of human remains attributed to site 35CS1 at Bandon, Coos County, OR, which is several miles north of Bullards Beach, Coos County, OR, on the Coquille River. No information is available regarding the date that the human remains were removed from site 35CS1, or when the human remains were accessioned into the museum. The museum considers it likely that the inventoried human remains from site 35CS1 are the same human remains that the sheriff removed in 1969, although due to cataloging problems this interpretation cannot be established with certainty. While no associated funerary objects are identified in museum records, copper buttons and a whale bone fragment are stored with the human remains. Based on the appearance of copper staining on the human bone, the museum has determined that the objects are funerary objects associated with the human remains. No known individuals were identified. The four associated funerary objects are three copper buttons and one whale bone fragment.

The funerary objects associated with the human remains indicate a Contact period age.

Based on associated funerary objects, archeological context, and skeletal morphology, the human remains have been determined to be Native American. Historic documents, continuities of material culture, ethnographic sources, and oral history indicate the Coquille people have occupied the Bullards and Bandon areas since precontact times.

Determinations. Under 25 U.S.C. 3003, museum officials determined that the human remains represent the physical remains of 10 individuals of Native American ancestry. Museum officials determined that the approximately 331 objects are reasonably believed to have been placed with or near individual human remains at the time of death or later as part of the death rite or ceremony. Museum officials determined that the human remains and associated funerary objects are culturally affiliated with the Indian tribes listed in Summary.

Notification. The museum is responsible for sending a copy of this notice to the consulted Indian tribes listed above in Consultation.

Dated: May 20, 2005
Paul Hoffman,
Deputy Assistant Secretary, Fish and Wildlife and Parks

[FR Doc. 05-10800 Filed 5-31-05; 8:45 am]

BILLING CODE 4312-50-S